ENVIRONMENTAL PROTECTION AGENCY

[ER-FRL-8586-2]

Environmental Impacts Statements; Notice of Availability

Responsible Agency: Office of Federal Activities, General Information (202) 564-1399 or http://www.epa.gov/compliance/nepa/.

Weekly receipt of Environmental Impact Statements

Filed 09/22/2008 through 09/26/2008

Pursuant to 40 CFR 1506.9.

EIS No. 20080380, Draft EIS, AFS, CA, Tahoe National Forest Motorized Travel Management, Implementation, Sierra Nevada Mountains, Nevada, Placer, Plumas, Sierra and Yuba Counties, CA, Comment Period Ends: 11/26/2008, Contact: David Arrasmith 530-478-6220.

EIS No. 20080381, Draft EIS, IBR, CA, South Coast Conduit/Upper Reach Reliability Project, Construction of a Second Water Pipeline for Improving Water Supply, U.S. Army COE Section 10 and 404 Permits, Santa Barbara County, CA, Comment Period Ends: 11/17/2008, Contact: Judi Tapia 559-487-5138.

EIS No. 20080382, Final EIS, AFS, NM, Surface Management of Gas Leasing and Development, Proposes to Amend the Forest Plan include Standard and Guidelines Related to Gas Leasing and Development in the Jicarilla Ranger District, Carson National Forest, Rio Arriba County, NM, Wait Period Ends: 11/03/2008, Contact: Audrey Kuykerdall 505-758-6200.

EIS No. 20080383, Draft EIS, AFS, VT, Deerfield Wind Project, Application for a Land Use Authorization to Construct and Operate a Wind Energy Facility, Special Use Authorization Permit, Towns of Searsburg and Readsboro, Manchester Ranger District, Green Mountain National Forest, Bennington County, VT, Comment Period Ends: 11/28/2008, Contact: Bob Bayer 802-362-2307 Ext 218.

EIS No. 20080384, Final Supplement, MMS, 00, Gulf of Mexico Outer Continental Shelf Oil and Gas Lease Sales: 2009-2012 Western Planning Area Sales: 210 in 2009, 215 in 2010, and 218 in 2011, and Central Planning Area Sales: 208 in 2009, 213 in 2010, 216 in 2011, and 222 in 2012, TX, LA, MS, AL and FL, Wait Period Ends: 11/03/2008, Contact: Mary Boatman 703-787-1662.

EIS No. 20080385, Draft EIS, FTA, MD, Red Line Corridor Transit Study, Alternatives Analysis, Implementation of a New East-West Transit Alignment through Baltimore, Baltimore County, MD, Comment Period Ends: 01/02/2009, Contact: Gail McFadden-Roberts 215-656-7100.

EIS No. 20080386, Draft EIS, COE, CA, San Pedro Waterfront Project, Proposed Specific Development Project and Associated Infrastructure Improvements on Approximately 400 Acres, Currently Operated by Los Angeles Harbor Department (LAHD), Located along the West Side of Los Angeles Harbor's Main Channel, from the Vincent Thomas Bridge to Cabrillo Beach, U.S. Army Section 10 and 404 and Section 103 Marine Protection, Research, and Sanctuaries Act Permits, (MPRSA) City of Los Angeles, CA, Comment Period Ends: 12/08/2008, Contact: Dr. Spencer D. MacNeil 805-585-2152.

EIS No. 20080387, Final EIS, NPS, CO, Curecanti National Recreation Area Resource Protection Study, Gunnison and Montrose Counties, CO, Wait Period Ends: 11/03/2008, Contact: Dave Roberts 970-240-5432.

EIS No. 20080388, Draft EIS, AFS, OR, BLT Project, Proposed Vegetation Management Activities, Crescent Ranger District, Deschutes National Forest, Deschutes County, OR, Comment Period Ends: 11/17/2008, Contact: Chris Mickle 541-433-3200.

EIS No. 20080389, Second Draft Supplement, AFS, ID, Southwest Idaho Ecogroup Land and Resource Management Plan, Provide Additional Information to Reanalyzes the Effects of Current and Proposed Management on Rock Mountain Bighorn Sheep Viability in the Payette National Forest 2003 FEIS, Boise National Forest, Payette National Forest and Sawtooth National Forest, Forest Plan Revision, Implementation, Several Counties, ID; Malhaur County, OR and Box Elder County, UT, Comment Period Ends: 01/02/2009, Contact: Patricia Soucek 208-634-0812.

EIS No. 20080390, Final EIS, BLM, MT, Montana Tunnels Mine Project, Proposed M-Pit Mine Expansion to Existing Mine Pit to Access and Mine Additional Ore Resources, Jefferson County, MT, Wait Period Ends: 11/03/2008, Contact: David Williams 406-533-7655.

EIS No. 20080391, Draft EIS, FHW, MN, Trunk Highway 14 (US 14) Project, Proposed Construction from Interstate 35 to Trunk Highway 56, Funding, NPDES and U.S. Army COE Section 404 Permits, Steele and Doge Counties, MN, Comment Period Ends: 11/17/2008, Contact: Cheryle Martin 651-291-6120.

EIS No. 20080392, Final EIS, BLM, NV, Cortez Hills Expansion Project, Proposes to Construct and Operate a New Facilities and Expansion of the Existing Open-Pit Gold Mining and Processing Operations, Crescent Valley, Lander and Eureka Counties, NV, Wait Period Ends: 11/03/2008, Contact: Christopher Worthington 775-635-4000.

EIS No. 20080393, Draft EIS, NRC, PA, Generic—License Renewal of Nuclear Plants, Supplement 36 to NUREG-1437, Regarding Beaver Valley Power Station, Units 1 and 2, Plant-Specific, Issuing Nuclear Power Plant Operating License for an Additional 20-Year Period, PA, Comment Period Ends: 12/10/2008, Contact: Emmanuel Sayoc 301-415-1924

EIS No. 20080394, Final EIS, BLM, NV, White Pine Energy Station Project, Construction and Operation, Coal-fired Electric Power Generating Plant, White Pine County, NV, Wait Period Ends: 11/03/2008, Contact: Jane Peterson 775-289-1800.

EIS No. 20080395, Draft EIS, AFS, 00, Sioux Ranger District Travel Management Project, To Designate the Road and Trail and Areas Suitable for Public Motorized Travel, Sioux Ranger District, Custer National Forest, Carter County of MT and Harding County of South Dakota, Comment Period Ends: 11/17/2008, Contact: Doug Epperly 404-657-6205 Ext. 225

EIS No. 20080396, Draft EIS, AFS, MT, Ashland Ranger District Travel Management Project, Proposing to Designate Routes for Public Motorized Use, Ashland Ranger District, Custer National Forest, Rosebud and Power River Counties, MT, Comment Period Ends: 11/17/2008, Contact: Doug Epperly 406-657-6205 Ext. 225.

EIS No. 20080397, Draft EIS, AFS, CO, Hermosa Landscape Grazing Analysis Project, Proposes to Continue to Authorize Livestock Grazing Cascade Reservoir, Dutch Creek, Elbert Creek, Hope Creek South Fork, and Upper Hermosa Allotments, Columbine Ranger District, San Juan National Forest, LaPlata and San Juan Counties, CO, Comment Period Ends: 11/17/2008, Contact: Cam Hooley 970-884-1414.

EIS No. 20080398, Draft EIS, NIH, MT, Rocky Mountain Laboratories (RML) Master Plan, Implementation, Hamilton, Ravalli County, MT, Comment Period Ends: 12/12/2008, Contact: Mark Radtke 301-451-6467.

EIS No. 20080399, Final Supplement, FTA, CA, Central Subway/Third Street Light Rail Phase 2, Funding, San Francisco Municipal Transportation Agency, in the City and County San Francisco, CA, Wait Period Ends: 11/03/2008, Contact: Ray Sukys 415-744-3133.

EIS No. 20080400, Final EIS, DOE, MT, MATL 230-kV Transmission Line Project, To Construct, Operate, Maintain, and Connects a 230-kV Electric Transmission Line, Issuance of Presidential Permit for Right-to-Way Grant, Cascade, Teton, Chouteau, Pondera, Toole and Glacier Counties, MT, Wait Period Ends: 11/03/2008, Contact: Ellen Russell 202-596-9624.

Dated: September 30, 2008.
Robert W. Hargrove,
Director, NEPA Compliance Division, Office of Federal Activities.

[FR Doc. E8-23385 Filed 10-2-08; 8:45 am]

BILLING CODE 6560-50-P